U.S. ELECTION ASSISTANCE COMMISSION

Sunshine Act Notice

AGENCY: U.S. Election Assistance Commission.

ACTION: Notice of public meeting agenda.

Date & Time: Wednesday, June 17, 2009; 1 p.m.-4 p.m. EDT.

Place: U.S. Election Assistance Commission, 1225 New York Ave, NW., Suite 150, Washington, DC 20005 (Metro Stop: Metro Center).

Agenda: The Commission will hold a public meeting to consider administrative matters. The Commission will receive an update on guidance to the States regarding 2009 requirements payments. The Commission will consider a report to Congress on the Election Data Collection Grants. The Commission will discuss a report to Congress on the Impact of the National Voter Registration Act. The Commission will discuss the 2010 Election Day Survey. Members of the public may observe but not participate in EAC meetings unless this notice provides otherwise.

Members of the public may use small electronic audio recording devices to record the proceedings. The use of other recording equipment and cameras requires advance notice to and coordination with the Commission's Communications Office.*

* View EAC Regulations Implementing Government in the Sunshine Act.

This Meeting Will be Open to the Public.

Person to Contact for Information: Bryan Whitener, Telephone: (202) 566-3100.

Alice Miller,
Chief Operating Officer, U.S. Election Assistance Commission.

[FR Doc. E9-13647 Filed 6-8-09; 11:15 am]

BILLING CODE 6820-KF-P